DEPARTMENT OF DEFENSE

Office of the Secretary

Defense Policy Board; Federal Advisory Committee Meeting Notice

AGENCY: Department of Defense, Office of the Under Secretary of Defense (Policy).

ACTION: Federal advisory committee meeting notice.

SUMMARY: Under the provisions of the Federal Advisory Committee Act of 1972 (5 U.S.C., Appendix, as amended) and the Sunshine Act of 1976 (5 U.S.C. 552b, as amended) the Department of Defense announces the following Federal advisory committee meeting of the Defense Policy Board (hereafter referred to as “the DPB”).

DATES: Tuesday, November 29, 2011 and Wednesday, November 30, 2011.

ADDRESSES: The Pentagon, 2000 Defense Pentagon, Washington, DC 20301-2000.

FOR FURTHER INFORMATION CONTACT: Ms. Ann Hansen, 2000 Defense Pentagon, Washington, DC 20301-2000; Phone: (703) 571-9232.

SUPPLEMENTARY INFORMATION:

Administrative Meeting: From 8 a.m. until 8:30 a.m. on Tuesday, November 29, 2011, the DPB will hold an administrative meeting under 41 CFR 102-3.160(b) to swear in its members and provide them with administrative information from a Federal officer or agency.

Quarterly Meeting: From Tuesday, November 29, 2011 (8:30 a.m. to 8:30 p.m.) through Wednesday, November 30, 2011 (7:30 a.m. to 10 a.m.) the DPB will hold a quarterly meeting under the provisions of the Federal Advisory Committee Act of 1972 (5 U.S.C., Appendix, as amended) and the Sunshine Act of 1976 (5 U.S.C. 552b, as amended).

Purpose of Meeting: To obtain, review and evaluate classified information related to the DPB's mission to advise on: (a) Issues central to strategic DoD planning; (b) policy implications of U.S. force structure and force modernization and on DoD's ability to execute U.S. defense strategy; (c) U.S. regional defense policies; and (d) other research and analysis of topics raised by the Secretary of Defense, the Deputy Secretary or the Under Secretary of Defense for Policy.

Meeting Agenda: Beginning at 8:30 a.m. on November 29 through the end of the meeting on November 30, the DPB will have secret level discussions on national security matters that will deal with U.S., and Allied force structure, potential threats and broad national security issues within the Pacific Rim, the Eastern Mediterranean, NATO, and nuclear deterrence.

Meeting Accessibility: Pursuant to 5 U.S.C. 552b, as amended, and 41 CFR 102-3.155, the Department of Defense has determined that the meeting shall be closed to the public. The Under Secretary of Defense (Policy), in consultation with the Office of the General Counsel, has determined in writing that this meeting be closed to the public because the discussions fall under the purview of Title 5, United States Code, Section § 552b(c)(1) and are inextricably intertwined with the unclassified material that they cannot reasonably be segregated into separate discussions without disclosing secret or classified material.

Written Statements: Pursuant to 41 CFR 102-3.105(j) and 102-3.140, the public or interested organizations may submit written statements to the membership of the DPB at any time or in response to the stated agenda of a planned meeting. Written statements should be submitted to the DPB's Designated Federal Officer; the Designated Federal Officer's contact information can be obtained from the GSA's FACA Database— https://www.fido.gov/facadatabase/public.asp. Written statements that do not pertain to a scheduled meeting of the DPB may be submitted at any time. However, if individual comments pertain to a specific topic being discussed at a planned meeting then these statements must be submitted no later than five business days prior to the meeting in question. The Designated Federal Officer will review all submitted written statements and provide copies to all committee members.

Due to difficulties, beyond the control of the Defense Policy Board or its Designated Federal Officer, the Board was unable to file a Federal Register notice announcing its November 29-30, 2011 meeting within the 15-calendar day period the Advisory Committee Management Officer for the Department of Defense, pursuant to 41 CFR 102-3.150(b), waives the 15-calendar day notification requirement.

Dated: November 8, 2011.
Aaron Siegel,
Alternate OSD Federal Register Liaison Officer, Department of Defense.

[FR Doc. 2011-29320 Filed 11-10-11; 8:45 am]

BILLING CODE 5001-06-P